DEPARTMENT OF TRANSPORTATION

Coast Guard

33 CFR Part 117

[CGD01-00-008]

Drawbridge Operation Regulations: Jamaica Bay and Connecting Waterways, NY

AGENCY: Coast Guard, DOT.

ACTION: Notice of temporary deviation from regulations.

SUMMARY: The Commander, First Coast Guard District, has issued a temporary deviation from the drawbridge operation regulations for the Beach Channel Bridge, mile 6.7, across the Jamaica Bay in New York. This deviation from the regulations allows the bridge owner to keep the bridge in the closed position from March 25, 2000, through April 2, 2000. This action is necessary to facilitate electrical repairs at the bridge.

DATES: This deviation is effective March 25, 2000, through April 2, 2000.

FOR FURTHER INFORMATION CONTACT: Joe Arca, Project Officer, First Coast Guard District, at (212) 668-7165.

SUPPLEMENTARY INFORMATION: The Beach Channel Bridge, mile 6.7, across the Jamaica Bay has a vertical clearance of 26 feet at mean high water, and 31 feet at mean low water in the closed position. The bridge owner, New York City Transit Authority, requested a temporary deviation from the operating regulations to facilitate electrical repairs at the bridge. The existing operating regulations require the bridge to open on signal at all times.

This deviation to the operating regulations allows the owner of the Beach Channel Bridge to keep the bridge in the closed position from March 25, 2000, through April 2, 2000. Vessels that can pass under the bridge without an opening may do so at all times.

In accordance with 33 CFR 117.35(c), this work will be performed with all due speed in order to return the bridge to normal operation as soon as possible. This deviation from the operating regulations is authorized under 33 CFR 117.35.

Dated: February 14, 2000.
R.M. Larrabee,
Rear Admiral, U.S. Coast Guard, Commander, First Coast Guard District.

[FR Doc. 00-4743 Filed 2-28-00; 8:45 am]

BILLING CODE 4910-15-U